DEPARTMENT OF THE INTERIOR

Fish and Wildlife Service

[FWS-R3-ES-2015-N081; FXES11130300000-154-FF03E00000]

Endangered and Threatened Wildlife and Plants; Permit Applications

AGENCY: Fish and Wildlife Service, Interior.

ACTION: Notice of availability of permit applications; request for comments.

SUMMARY: We, the U.S. Fish and Wildlife Service (USFWS), invite the public to comment on the following applications to conduct certain activities with endangered species. With some exceptions, the Endangered Species Act (Act) prohibits activities with endangered or threatened species unless a Federal permit allows such activity. The Act requires that we invite public comment before issuing these permits.

DATES: We must receive any written comments on or before June 8, 2015.

ADDRESSES: Send written comments by U.S. mail to the Regional Director, Attn: Endangered Species Permits, U.S. Fish and Wildlife Service, Ecological Services, 5600 American Blvd. West, Suite 990, Bloomington, MN 55437-1458; or by electronic mail to permitsR3ES@fws.gov.

FOR FURTHER INFORMATION CONTACT: Regional Recovery Permit Coordinator, by telephone at (612) 713-5343.

SUPPLEMENTARY INFORMATION:

Background

We invite public comment on the following permit applications for certain activities with endangered species authorized by section 10(a)(1)(A) of the Act (16 U.S.C. 1531 et seq.) and our regulations governing the taking of endangered species, found at 50 CFR part 17. Submit your written data, comments, or request for a copy of the complete application to the mailing address or email address shown in ADDRESSES.

Permit Applications

Permit Application Number: TE697830-9

Applicant: Assistant Regional Director, Ecological Services, U.S. Fish and Wildlife Service, Bloomington, MN.

The applicant requests a permit amendment to add species listed or proposed for listing since January 2012, and that occur within the States of Illinois, Indiana, Iowa, Michigan, Minnesota, Missouri, Ohio and Wisconsin. Proposed activities are for the recovery and enhancement of survival of the species in the wild.

Permit Application Number: TE62218B

Applicant: Douglas J. Taron, Chicago Academy of Sciences, Chicago, IL.

The applicant requests a permit to take Karner blue butterfly (Lycaeides melissa samuelis) within the States of Illinois and Indiana. Proposed activities are for the recovery and enhancement of survival of the species in the wild.

Permit Application Number: TE130900

Applicant: Gregory F. Zimmerman, EnviroScience, Inc., Stow, OH.

The applicant requests an amendment to add dwarf wedgemussel (Alasmidonta heterodon), James spinymussel (Pleurobema collina), scaleshell mussel (Leptodea leptodon), and spectaclecase (Cumberlandia monodonta) to their permit. Proposed activities are for the recovery and enhancement of survival of the species in the wild.

Permit Application Number: TE120231

Applicant: John C. Timpone, Coeur d'Alene, ID.

The applicant requests renewal of their permit and an amendment to add the northern long-eared bat (Myotis septentrionalis) and the States of Kansas, Louisiana, Maine, Minnesota, Nebraska, North Dakota, and South Dakota. Proposed activities are for the recovery and enhancement of survival of the species in the wild.

Permit Application Number: TE60257B

Applicant: Jason W. Crites, Missouri Department of Conservation, Cape Girardeau, MO.

The applicant requests a permit to take grotto sculpin (Cottus specus) in the State of Missouri. Proposed activities are for the recovery and enhancement of survival of the species in the wild.

Permit Application Number: TE60133B

Applicant: Jay T. Hatch, University of Minnesota, Minneapolis, MN.

The applicant requests a permit to take Topeka shiner (Notropis topeka) in the State of Minnesota. Proposed activities are for the recovery and enhancement of survival of the species in the wild.

Permit Application Number: TE40451B

Applicant: Katie N. Bertrand, South Dakota State University, Brookings, SD.

The applicant requests a permit to take Topeka shiner (Notropis topeka) in the States of Minnesota and South Dakota. Proposed activities are for the recovery and enhancement of survival of the species in the wild.

Permit Application Number: TE15027A

Applicant: Stantec Consulting Services, Inc., Columbus, OH.

The applicant requests permit amendment to take northern long-eared bats (Myotis septentrionalis) and add the States of Connecticut, Delaware, Kansas, Louisiana, Maine, Massachusetts, Minnesota, Montana, Nebraska, New Hampshire, North Dakota, Rhode Island, South Carolina, South Dakota and Wyoming to their permit. The applicant also requests a permit renewal. Proposed activities are for the recovery and enhancement of survival of the species in the wild.

Permit Application Number: TE82666A

Applicant: Justin G. Boyles, Southern Illinois University, Carbondale, IL.

The applicant requests an amendment to add the northern long-eared bat (Myotis septentrionalis) to their permit. The applicant also requests a permit renewal. Proposed activities are for the recovery and enhancement of survival of the species in the wild.

Permit Application Number: TE105320

Applicant: Michael D. Johnson, Tragus Environmental Consulting, Inc., Akron, OH.

The applicant requests a permit amendment to take the northern long-eared bat (Myotis septentrionalis) and add the States of Louisiana, Maine, Massachusetts, Minnesota, New Hampshire, North Dakota, Rhode Island, South Dakota, and Wisconsin to their permit. The applicant also requests a permit renewal. Proposed activities are for the recovery and enhancement of survival of the species in the wild.

Permit Application Number: TE21831B

Applicant: Katherine L. Caldwell, Ball State University, Muncie, IN.

The applicant requests a permit amendment to take Indiana bats (Myotis sodalis) in the States of Alabama, Arkansas, Connecticut, Illinois, Iowa, Kentucky, Maryland, Michigan, Missouri, New Jersey, New York, North Carolina, Ohio, Oklahoma, Pennsylvania, Tennessee, Vermont, Virginia, and West Virginia. The applicant also requests a permit renewal. Proposed activities are for the recovery and enhancement of survival of the species in the wild.

Permit Application Number: TE64241B

Applicant: Mary Thomsen, Barker Lemar Engineering Consultants, West Des Moines, IA.

The applicant requests a permit to take Indiana bats (Myotis sodalis) in the States of Illinois and Iowa. Proposed activities are for the recovery and enhancement of survival of the species in the wild.

Permit Application Number: TE64239B

Applicant: Nathanael R. Light, Ozark, MO.

The applicant requests a permit to take Indiana bats (Myotis sodalis), gray bats (Myotis grisescens), and northern long-eared bats (Myotis septentrionalis) in the States of Alabama, Arkansas, Connecticut, Florida, Georgia, Illinois, Indiana, Kansas, Kentucky, Michigan, Mississippi, Missouri, New Jersey, New York, North Carolina, Ohio, Oklahoma, Pennsylvania, Tennessee, Vermont, Virginia, and West Virginia. Proposed activities are for the recovery and enhancement of survival of the species in the wild.

Permit Application Number: TE06797A

Applicant: Rod D. McClanahan, Anna, IL.

The applicant requests a permit amendment to take northern long-eared bat (Myotis septentrionalis). The applicant also requests a permit renewal. Proposed activities are for the recovery and enhancement of survival of the species in the wild.

Permit Application Number: TE98063A

Applicant: Kathryn M. Womack, Columbia, MO.

The applicant requests a permit amendment to take northern long-eared bat (Myotis septentrionalis). The applicant also requests a permit renewal. Proposed activities are for the recovery and enhancement of survival of the species in the wild.

Permit Application Number: TE38842A

Applicant: Christopher W. Sanders, Sanders Environmental Inc., Bellefonte, PA.

The applicant requests a permit amendment to take northern long-eared bats (Myotis septentrionalis). The applicant also requests a permit renewal. Proposed activities are for the recovery and enhancement of survival of the species in the wild.

Permit Application Number: TE77530A

Applicant: Douglas J. Kapusinski, Chagrin Valley Engineering, Ltd., Cleveland, OH.

The applicant requests a permit renewal to take clubshell (Pleurobema clava), cracking pearlymussel (Hemistena lata), dwarf wedgemussel (Alasmidonta heterodon), fanshell (Cyprogenia stegaria), fat pocketbook (Potamilus capax), Higgins' eye pearlymussel (Lampsilis higginsii), James spinymussel (Pleurobema collina), northern riffleshell (Epioblasma torulosa rangiana), orangefoot pimpleback pearlymussel (Plethobasus cooperianus), pink mucket pearlymussel (Lampsilis abrupta), purple cat's paw pearlymussel (Epioblasma obliquata obliquata), rayed bean (Villosa fabalis), ring pink (Obovaria retusa), rough pigtoe (Pleurobema plenum), scaleshell (Leptodea leptodon), sheepnose (Plethobasus cyphyus), snuffbox (Epioblasma triquetra), spectaclecase (Cumberlandia monodonta), tubercled blossom (Epioblasma torulosa torulosa), white cat's paw pearlymussel (Epioblasma obliquata perobliqua), white wartyback (Plethobasus cicatriocosus), and winged mapleleaf (Quadrula fragosa). Proposed activities are for the recovery and enhancement of survival of the species in the wild.

Permit Application Number: TE144832

Applicant: Detroit Zoological Society, Royal Oak, MI.

The applicant requests a permit renewal to take Karner blue butterflies (Lycaeides melissa samuelis) in the States of Ohio and Michigan, and to take piping plovers (Charadrius melodus) in the States of Michigan and Wisconsin. Proposed activities are for the recovery and enhancement of survival of the species in the wild.

Permit Application Number: TE206778-6

Applicant: U.S. Fish and Wildlife Service, Twin Cities Field Office, Bloomington MN.

The applicant requests an amendment to add additional activities and personnel to their permit. The applicant also requests a permit renewal. Proposed activities are for the recovery and enhancement of survival of the species in the wild.

Permit Application Number: TE06845A

Applicant: Lochmueller Group, Inc., Evansville, IN.

The applicant requests a permit amendment to take northern long-eared bats (Myotis septentrionalis). The applicant also requests a permit renewal. Proposed activities are for the recovery and enhancement of survival of the species in the wild.

Permit Application Number: TE98032A

Applicant: James Gardner, Jefferson City, MO.

The applicant requests a permit amendment to the existing permit to take northern long-eared bats (Myotis septentrionalis). The applicant also requests a permit renewal. Proposed activities are for the recovery and enhancement of survival of the species in the wild.

Permit Application Number: TE98295A

Applicant: Dallas Settle, Fayetteville, WV.

The applicant requests a permit amendment to the existing permit to take northern long-eared bats (Myotis septentrionalis). The applicant also requests a permit renewal. Proposed activities are for the recovery and enhancement of survival of the species in the wild.

Permit Application Number: TE66742A

Applicant: Timothy Krynak, Cleveland Parks, Parma, OH.

The applicant requests a permit amendment to take northern long-eared bats (Myotis septentrionalis). The applicant also requests a permit renewal. Proposed activities are for the recovery and enhancement of survival of the species in the wild.

Permit Application Number: TE60958A

Applicant: Bryan Arnold, affiliated with Illinois College, Jacksonville, IL.

The applicant requests a permit amendment to take northern long-eared bat (Myotis septentrionalis), and add additional States and personnel to their permit. The applicant also requests a permit renewal. Proposed activities are for the recovery and enhancement of survival of the species in the wild.

Permit Application Number: TE38769A

Applicant: Sarah Bradley, Salem, MO.

The applicant requests a permit amendment to take northern long-eared bats (Myotis septentrionalis). The applicant also requests a permit renewal. Proposed activities are for the recovery and enhancement of survival of the species in the wild.

Permit Application Number: TE62297A

Applicant: Michael Whitby, University of Nebraska, Lincoln, NE.

The applicant requests a permit amendment to take northern long-eared bats (Myotis septentrionalis). The applicant also requests a permit renewal. Proposed activities are for the recovery and enhancement of survival of the species in the wild.

Permit Application Number: TE151107

Applicant: Redwing Ecological Services, Inc., Louisville, KY.

The applicant requests a permit amendment to take northern long-eared bats (Myotis septentrionalis). The applicant also requests a permit renewal. Proposed activities are for the recovery and enhancement of survival of the species in the wild.

Permit Application Number: TE62286A

Applicant: Jason Whittle, Cuyahoga Falls, OH.

The applicant requests a permit amendment to take northern long-eared bat (Myotis septentrionalis). The applicant also requests a permit renewal. Proposed activities are for the recovery and enhancement of survival of the species in the wild.

Permit Application Number: TE38821A

Applicant: Stantec Consulting Services, Louisville, KY.

The applicant requests a permit amendment to take northern long-eared bats (Myotis septentrionalis), fluted kidneyshell (Ptychobranchus subtentum), and slabside pearlymussel (Pleuronaia dolabelloides), and to add personnel to their permit. Proposed activities are for the recovery and enhancement of survival of the species in the wild.

Permit Application Number: TE38789A

Applicant: Power Engineers, Inc., Cincinnati, OH.

The applicant requests a permit amendment to take northern long-eared bats (Myotis septentrionalis) in the States of Oklahoma, Texas, Minnesota, Wisconsin, Connecticut, Delaware, Maine, Maryland, Massachusetts, New Hampshire, New Jersey, Rhode Island, Vermont, Virginia, West Virginia, Kansas, Montana, Nebraska, North Dakota, South Dakota, and Wyoming. Proposed activities are for the recovery and enhancement of survival of the species in the wild.

Permit Application Number: TE38087B

Applicant: Jessica Hickey-Miller, Independence, OH.

The applicant requests a permit amendment to take northern long-eared bats (Myotis septentrionalis) and Gray bats (Myotis grisescens) in the States of Ohio, Michigan, and Missouri. Proposed activities are for the recovery and enhancement of survival of the species in the wild.

Permit Application Number: TE35518B

Applicant: Jeremy Sheets, Plymouth, IN.

The applicant requests a permit amendment to take northern long-eared bats (Myotis septentrionalis). The amendment would also ad the States of Kansas, Minnesota, Nebraska, North Dakota, and South Dakota to their permit. Proposed activities are for the recovery and enhancement of survival of the species in the wild.

Permit Application Number: TE212427

Applicant: Ecology and Environment, Inc., Lancaster, NY.

The applicant requests a permit amendment to take northern long-eared bats (Myotis septentrionalis) and add the States of Louisiana, Maine, Minnesota, Montana, Nebraska, North Dakota, South Dakota, Texas, and Wyoming to their permit. Proposed activities are for the recovery and enhancement of survival of the species in the wild.

Permit Application Number: TE31055B

Applicant: Kory Armstrong, Springfield, MO.

The applicant requests a permit amendment to take northern long-eared bats (Myotis septentrionalis) and Ozark big-eared bats (Corynorhinus townsendii ingens). The applicant also requests a permit renewal. Proposed activities are for the recovery and enhancement of survival of the species in the wild.

Permit Application Number: TE60958A

Applicant: Bat Call Identification Inc., Kansas City, MO.

The applicant requests a permit amendment to take northern long-eared bats (Myotis septentrionalis) and add personnel to the permit. Proposed activities are for the recovery and enhancement of survival of the species in the wild.

Permit Application Number: TE106220

Applicant: Brianne Walters, Terre Haute, IN.

The applicant requests a permit amendment to take northern long-eared bats (Myotis septentrionalis) in the States of Illinois, Indiana, and Ohio. Proposed activities are for the recovery and enhancement of survival of the species in the wild.

Permit Application Number: TE06846A

Applicant: Peter P. Marra, Smithsonian Institute, Washington, DC

The applicant requests a permit amendment to take Kirtland's warblers (Setophaga kirtlandii) in the State of Michigan (a request to increase the number of nests monitored from 100 to 150, and increase the frequency of nest check). Proposed activities are for the recovery and enhancement of survival of the species in the wild.

Permit Application Number: TE98296A

Applicant: Braden A. Hoffman, Alliance Consulting, Inc., Daniels, WV.

The applicant requests a permit amendment to take northern long-eared bats (Myotis septentrionalis) and Virginia big-eared bats (Corynorhinus townsendii virginianus). The applicant also requests a permit renewal. Proposed activities are for the recovery and enhancement of survival of the species in the wild.

Permit Application Number: TE809630

Applicant: Allen Kurta, Eastern Michigan University, Ypsilanti, MI.

The applicant requests a permit amendment to take northern long-eared bats (Myotis septentrionalis), and add personnel and the State of Michigan to their permit. The applicant also requests a permit renewal. Proposed activities are for the recovery and enhancement of survival of the species in the wild.

Permit Application Number: TE10877

Applicant: Ralph Grundel, Porter IN.

The applicant requests a permit amendment to take Karner blue butterflies (Lycaeides melissa sameulis) in the States of Wisconsin and Michigan, and add personnel to their permit. Proposed activities are for the recovery and enhancement of survival of the species in the wild.

Permit Application Number: TE30970B

Applicant: Jeffrey Miller, Kansas City MO.

The applicant requests a permit amendment to take northern long-eared bats (Myotis septentrionalis) in the States of Arkansas, District of Colombia, Kentucky, Maine, Maryland, Massachusetts, Michigan, New Hampshire, New Jersey, New York, Rhode Island, Vermont, Virginia, Connecticut, Minnesota, Pennsylvania, South Dakota, Tennessee, West Virginia, and Wisconsin. Proposed activities are for the recovery and enhancement of survival of the species in the wild.

Permit Application Number: TE06778A

Applicant: U.S. Forest Service, Poplar Bluff, MO.

The applicant requests a permit amendment to take northern long-eared bats (Myotis septentrionalis), and add personnel to their permit. Proposed activities are for the recovery and enhancement of survival of the species in the wild.

Permit Application Number: TE35855B

Applicant: Laura D'Acunto, West Lafayette, IN.

The applicant requests a permit amendment to take northern long-eared bats (Myotis septentrionalis) in the State of Michigan. Proposed activities are for the recovery and enhancement of survival of the species in the wild.

Permit Application Number: TE64072B

Applicant: Douglas D. Locy, Aquatic Systems, Inc., Pittsburgh, PA.

The applicant requests a permit to take the clubshell (Pleurobema clava), fanshell (Cyprogenia stegaria), fat pocketbook (Potamilus capax), Higgins' eye (Lampsilis higginsii), northern riffleshell (Epioblasma torulosa rangiana), orangefoot pimpleback (Phethobasus cooperianus), pink mucket (Lampsilis abrupta), purple cat's paw pearlymussel (Epioblasma obliquata obliquata), rabbitsfoot (Quadrula cylindrica cylindrica), rayed bean (Villosa fabalis), rough pigtoe (Pleurobema plenum), sheepnose (Plethobasus cyphyus), snuffbox (Epioblasma triquetra), spectaclecase (Cumberlandia monodonta), and white cat's paw (Epioblasma obliquata perobliqua) mussels in the States of Illinois, Indiana, and Ohio. Proposed activities are for the recovery and enhancement of survival of the species in the wild.

Permit Application Number: TE64068B

Applicant: Timothy J. Catton, USDA Forest Service, Duluth, MN.

The applicant requests a permit to take northern long-eared bats (Myotis septentrionalis) in the States of Minnesota, Wisconsin, and Michigan. Proposed activities are for the recovery and enhancement of survival of the species in the wild.

Permit Application Number: TE64070B

Applicant: Jeff Towner, SWCA, Inc., Bismarck, ND.

The applicant requests a permit to take Dakota skippers (Hesperia dacotae) and Poweshiek skipperlings (Oarisma poweshiek) in the States of Minnesota, Michigan, Wisconsin, Iowa, North Dakota, South Dakota. Proposed activities are for the recovery and enhancement of survival of the species in the wild.

Permit Application Number: TE64071B

Applicant: Gerald Lawrence Zuercher, Dubuque, IA.

The applicant requests a permit to take northern long-eared bats (Myotis septentrionalis) and Indiana bat (Myotis sodalis) in the State of Iowa. Proposed activities are for the recovery and enhancement of survival of the species in the wild.

Permit Application Number: TE64069B

Applicant: Kari Beth Jensen Kirschbaum, East Lansing, MI.

The applicant requests a permit to take northern long-eared bats (Myotis septentrionalis) and Indiana bat (Myotis sodalis) in the States of Minnesota, Wisconsin, and Michigan. Proposed activities are for the recovery and enhancement of survival of the species in the wild.

Permit Application Number: TE64073B

Applicant: Gerald Selby, Ecological & GIS Services, Indianola, IA.

The applicant requests a permit to take Dakota skippers (Hesperia dacotae) and Poweshiek skipperlings (Oarisma poweshiek) in the States of Minnesota, Iowa, North Dakota, and South Dakota. Proposed activities are for the recovery and enhancement of survival of the species in the wild.

Permit Application Number: TE64074B

Applicant: Julie A. Zeyzus, Fayetteville, PA.

The applicant requests a permit to take northern long-eared bats (Myotis septentrionalis), gray bats (Myotis grisescens), Virginia big-eared bats (Corynorhinus townsendii virginianus), and Indiana bats (Myotis sodalis) in the States of Oklahoma, Illinois, Indiana, Iowa, Ohio, Michigan, Minnesota, Missouri, Wisconsin, Alabama, Arkansas, Georgia, Kentucky, Louisiana, Mississippi, North Carolina, South Carolina, Tennessee, Connecticut, Delaware, District of Columbia, Maine, Maryland, Massachusetts, New Hampshire, New Jersey, New York, Pennsylvania, Rhode Island, Vermont, Virginia, West Virginia, Kansas, Montana, Nebraska, North Dakota, South Dakota, and Wyoming. Proposed activities are for the recovery and enhancement of survival of the species in the wild.

Permit Application Number: TE64075B

Applicant: Rodney Rovang, Effigy Mounds National Monument, Harper's Ferry, IA.

The applicant requests a permit to take northern long-eared bats (Myotis septentrionalis) and Indiana bats (Myotis sodalis) in the State of Iowa. Proposed activities are for the recovery and enhancement of survival of the species in the wild.

Permit Application Number: TE64076B

Applicant: Sarah Ebel, Field Museum of Natural History, Chicago, IL.

The applicant requests a permit to take federally listed species (salvage dead threatened and endangered species for scientific museum collections and public education/display) in the States of Illinois, Indiana, Minnesota, and Wisconsin. Proposed activities are for the recovery and enhancement of survival of the species in the wild.

Permit Application Number: TE64077B

Applicant: Scott Reed, HDR, Minneapolis, MN.

The applicant requests a permit to take Dakota skippers (Hesperia dacotae) and Poweshiek skipperlings (Oarisma poweshiek) in the States of Minnesota, Montana, North Dakota, South Dakota. Proposed activities are for the recovery and enhancement of survival of the species in the wild.

Permit Application Number: TE74078B

Applicant: Wyn Hall, Toledo Zoological Gardens, Toledo, OH.

The applicant requests a permit to take and/or possess gray wolves (Canis lupus) for zoological purposes. Proposed activities are for the recovery and enhancement of survival of the species in the wild.

Permit Application Number: TE64079B

Applicant: Erik Runquist, Minnesota Zoological Garden, Apple Valley, MN.

The applicant requests a permit to take Dakota skippers (Hesperia dacotae) and Poweshiek skipperlings (Oarisma poweshiek) in the State of Minnesota. Proposed activities are for the recovery and enhancement of survival of the species in the wild.

Permit Application Number: TE64080B

Applicant: Brian Klatt, Michigan State University, Michigan Natural Features Inventory, East Lansing, MI.

The applicant requests a permit to take the following species in the State of Michigan. Proposed activities are for the recovery and enhancement of survival of the species in the wild.

Species common name | Species scientific name
Copperbelly water snake | Nerodia erythrogaster neglecta.
Eastern massasauga | Sistrurus catenatus catenatus.
Piping plover | Charadrius melodus.
Kirtland's warbler | Dendroica kirtlandii.
Gray wolf | Canis lupus.
Cougar | Felis concolor.
Lynx | Lynx canadensis.
Northern long-eared bat | Myotis septentrionalis.
Indiana bat | Myotis sodalis.
Hungerford's crawling water beetle | Brychius hungerfordi.
American burying beetle | Nicrophorus americanus.
Karner blue butterfly | Lycaeides melissa samuelis.
Mitchell's satyr | Neonympha mitchellii mitchellii.
Poweshiek skipperling | Oarisma poweshiek.
Hine's emerald dragonfly | Somatochlora hineana.
White cat's paw | Epioblasma obliquata perobliqua.
Northern riffleshell | Epioblasma torulosa rangiana.
Snuffbox | Epioblasma triquetra.
Scaleshell | Leptodea leptodon.
Clubshell | Pleurobema clava.
Rayed bean | Villosa fabalis.
Hart's-tongue fern | Asplenium scolopendrium var.
Pitcher's thistle | Cirsium pitcheri.
Lakeside daisy | Hymenoxys herbacea (Tetraneuris herbacea).
Dwarf lake iris | Iris lacustris.
Small whorled pogonia | Isotria medeoloides.
Michigan monkey flower | Mimulus michiganensis (Mimulus glabratus var. michiganensis).
Prairie white-fringed orchid | Platanthera leucophaea (Habenaria leucophaea).
Houghton's goldenrod | Solidago houghtonii.

Permit Application Number: TE64081B

Applicant: Joseph R. Hoyt, Santa Cruz, CA.

The applicant requests a permit to take northern long-eared bats (Myotis septentrionalis) and Indiana bats (Myotis sodalis) in the States of Illinois, Michigan, and Wisconsin. Proposed activities are for the recovery and enhancement of survival of the species in the wild.

Permit Application Number: TE64082B

Applicant: Daniel W. Beckman, Springfield, MO.

The applicant requests a permit to take Topeka shiners (Notropis topeka) in the State of Missouri. Proposed activities are for the recovery and enhancement of survival of the species in the wild.

Permit Application Number: TE64234B

Applicant: Christopher Miles Barnhart, Springfield, MO.

The applicant requests a permit to take fanshell (Cyprogenia stegaria), Ouachita rock pocketbook (Arkansia wheeleri), fat pocketbook (Potamilus capax), snuffbox (Epioblasma triquetra), winged mapleleaf (Quadrula fragosa), rabbitsfoot (Quadrula cylindrica cylindrica), scaleshell (Leptodea leptodon), Arkansas fatmucket (Lampsilis powellii), Neosho mucket (Lampsilis rafinesqueana) pink mucket (Lampsilis abrupta), and spectaclecase (Cumberlandia monodonta) mussels, in the State of Missouri. Proposed activities are for the recovery and enhancement of survival of the species in the wild.

Permit Application Number: TE64235B

Applicant: William G. O'Leary, Murphysboro, IL.

The applicant requests a permit to take least terns (Sternula antillarum) in the State of Indiana. Proposed activities are for the recovery and enhancement of survival of the species in the wild.

Permit Application Number: TE64236B

Applicant: Josiah J. Maine, Kansas City, MO.

The applicant requests a permit to take northern long-eared bats (Myotis septentrionalis) and Indiana bats (Myotis sodalis) in the States of Oklahoma, Illinois, Indiana, Iowa, Michigan, Minnesota, Missouri, Ohio, Wisconsin, Arkansas, Kentucky, Tennessee, Connecticut, Delaware, District of Columbia, Maine, Maryland, Massachusetts, New Hampshire, New Jersey, New York, Pennsylvania, Rhode Island, Vermont, Virginia, West Virginia, Kansas, and South Dakota. Proposed activities are for the recovery and enhancement of survival of the species in the wild.

Permit Application Number: TE64237B

Applicant: Megan B. York-Harris, Fairdealing, MO.

The applicant requests a permit to take northern long-eared bats (Myotis septentrionalis), gray bats (Myotis grisescens), and Indiana bats (Myotis sodalis) in the States of Oklahoma, Illinois, Indiana, Iowa, Ohio, Michigan, Minnesota, Missouri, Wisconsin, Alabama, Arkansas, Florida, Georgia, Kentucky, Louisiana, Mississippi, North Carolina, South Carolina, Tennessee, Connecticut, Delaware, District of Columbia, Maine, Maryland, Massachusetts, New Hampshire, New Jersey, New York, Pennsylvania, Rhode Island, Vermont, Virginia, West Virginia, Kansas, Montana, Nebraska, North Dakota, South Dakota, and Wyoming. Proposed activities are for the recovery and enhancement of survival of the species in the wild.

Permit Application Number: TE64238B

Applicant: Jocelyn R. Karsk, Muncie, IN.

The applicant requests a permit to take northern long-eared bats (Myotis septentrionalis) and Indiana bats (Myotis sodalis) in the State of Indiana. Proposed activities are for the recovery and enhancement of survival of the species in the wild.

Permit Application Number: TE64264B

Applicant: Carly RW Kalina, Barker Lemar Engineering Consultants, West Des Moines, IA.

The applicant requests a permit to take northern long-eared bats (Myotis septentrionalis) and Indiana bats (Myotis sodalis) in the States of Iowa and Illinois. Proposed activities are for the recovery and enhancement of survival of the species in the wild.

Permit Application Number: TE02373A

Applicant: Environmental Solutions and Innovations, Inc., Cincinnati, OH.

The applicant requests a permit renewal, with amendments, to take northern long-eared bats (Myotis septentrionalis), Tar River spinymussel (Elliptio steinstansana), sheepnose (Plethobasus cyphyus), rayed bean (Villosa fabalis), fanshell (Cyprogenia stegaria), clubshell (Pleurobema clava), rabbitsfoot (Quadrula cylindrica cylindrica), James spinymussel (Pleurobema collina), and snuffbox (Epioblasma triquetra) mussels. The proposed amendments would occur in the states currently covered in the permit. Proposed activities are for the recovery and enhancement of survival of the species in the wild.

Permit Application Number: TE697830

Applicant: U.S. Fish and Wildlife Service, Chicago Field Office, Chicago, IL.

The applicant requests permit renewal and an amendment to add additional activities and personnel. Proposed activities are for the recovery and enhancement of survival of the species in the wild.

Permit Application Number: TE06809A

Applicant: Sybill Amelon, USDA Forest Service, Columbia, MO.

The applicant requests an amendment to add the northern long-eared bat (Myotis septentrionalis) and additional personnel to their permit. The applicant also requests a permit renewal. Proposed activities are for the recovery and enhancement of survival of the species in the wild.

Request for Public Comments

We seek public review and comments on these permit applications. Please refer to the appropriate permit application number(s) when you submit comments. Comments and materials we receive are available for public inspection, by appointment, during normal business hours at the address shown in the ADDRESSES section. Before including your address, phone number, email address, or other personal identifying information in your comment, you should be aware that your entire comment—including your personal identifying information—may be made publicly available at any time. While you can ask us in your comment to withhold your personal identifying information from public review, we cannot guarantee that we will be able to do so.

Authority

We provide this notice under section 10(c) of the ESA (16 U.S.C. 1531 et seq.) and it's implementing regulations (50 CFR 17.22).

Dated: April 28, 2015.
Lynn M. Lewis,
Assistant Regional Director, Ecological Services, Midwest Region.

[FR Doc. 2015-10985 Filed 5-6-15; 8:45 am]

BILLING CODE 4310-55-P